DEPARTMENT OF LABOR

Employment and Training Administration

Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) (44 U.S.C. 3506 (C)(2)(A)). This program helps to ensure that requested data can be provided in the desired format, reporting burden (time and financial resources) is minimized, collection instruments are clearly understood, and the impact of collection requirements on respondents can be properly assessed. Currently, the Employment and Training Administration (ETA) is soliciting comments concerning the proposed 24 month extension, with change, of the Employment Service Program Reporting System from the current end date of June 30, 2000 to a new end date of June 30, 2002.

A copy of the previously approved information collection request (ICR) can be obtained by contacting the office listed below in the addresses section of this notice.

DATES: Written comments must be submitted to the office listed in the addresses section below on or before May 9, 2000.

ADDRESSES: Timothy F. Sullivan, Office of Workforce Security, U.S. Employment Service, 200 Constitution Avenue NW., Room N-4464, Washington, DC 20210, (202-219-5257—not a toll free number) and internet address: tsullivan@doleta.gov and/or FAX: (202)-208-5844).

SUPPLEMENTARY INFORMATION:

I. Background

Information on basic labor exchange services is necessary to assure that the States are complying with legal requirements of the Wagner-Peyser Act, as amended by the Workforce Investment Act (WIA) of 1998. Program data items are required from States reporting to the Department of Labor as part of other information in order to determine if the States are complying with the basic labor exchange requirements.

Information regarding employment and training services provided to veterans by State public employment services agencies must be collected by the Department of Labor to satisfy legislative requirements, as follows: (a) To report annually to Congress on specific services (38 U.S.C. 2007(c) and 2012(c)); (b) to establish administrative controls (38 U.S.C. 2007 (b)); and (c) for administrative purposes. These data are reported on the VETS 200 A and B, the VETS 300, and the Manager's Report.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department is requesting an extension of the Employment Service Program Reporting System with changes to data elements, definitions, reporting instructions and/or reporting requirements from the current end date of June 30, 2000 to a new end date of June 30, 2002.

The Veterans' Employment and Training Service is requesting the collection of data for Campaign Veterans which are veterans who served on active duty in the United States armed forces during a war on in a campaign or expedition for which a campaign badge or expeditionary medal has been authorized. The Secretary of Labor is required under WIA to collect this information. This data collection will replace information currently collected on the ETA-9002A under the Service Members Occupation Conversion and Training Act (SMOCTA) (P.L. 102-484).

In light of WIA and in response to the requirements of the Government Performance and Results Act (GPRA) of 1993, the national call for government programs to be more accountable and results oriented, the Department of Labor (DOL), Employment and Training Administration (ETA), Office of Workforce Security, United States Employment Service (USES) will begin steps to establish performance measures for the public labor exchange program in conjunction with WIA activities and One-Stop delivery system implementation.

The United States Employment Service will work cooperatively with States and other stakeholders to develop program specific performance measures which will be released for comment at a later date.

The proposed measures are a starting point for development of comprehensive measures for the labor exchange function of the One-Stop delivery system. It is the Department's intent to use the comments received to develop performance measures for implementation on July 1, 2001.

The effort to finalize the performance measures, to identify the data elements needed to produce the performance measures and to define specific changes to the ETA reporting requirements will take several months to accomplish.

In consideration of these issues, the Department is requesting an extension, with change, of the Employment Service Program Reporting System from the current end date of June 30, 2000 to a new end date of June 30, 2002.

This is a request for OMB approval under the Paperwork Reduction Act of 1995 (PRA95) (44 U.S.C. 3506(c)(2)(A) to extend collection of the Employment Service Program Reporting System data previously approved and assigned OMB Control No. 1205-0240 and the data reporting for the ETA-9002A,B and C including the data reporting for the VETS 200 A and B, the VETS 300, and the Manager's Report on services to veterans and record keeping.

Type of Review: Extension with change.

Agency: Employment and Training Administration.

Title: Employment Service Program Reporting System.

OMB Number: 1205-0240.

Total Respondents: 54 States and territories.

Estimated Burden Hours: 7213.

Reports | Respondents | Frequency | Total responses | Average time per response (hours) | Burden (hours)
USES Rpt. | 54 | Quarterly | 216 | 2.75 | 594
VETS Rpt. | 54 | Quarterly | 216 | .25 | 54
USES Rec. | 54 | Annually | 54 | 12.00 | 648
VETS 200A | 54 | Quarterly | 216 | .85 | 184
VETS 200B | 54 | Quarterly | 216 | .85 | 184
VETS 300 | 54 | Quarterly | 216 | 1.00 | 216
Mgt. Report | 1600 | Quarterly | 6400 | .83 | 5333
Totals |  |  | 7534 |  | 7213

Total Burden Cost (capital/startup: 0.

Total Burden Cost (operating/maintaining): 0.

Comments submitted in response to this comment request will be summarized and/or included in the request for Office of Management and Budget approval of the information collection request; they will also become a matter of public record.

Dated: March 6, 2000.
Grace A. Kilbane,
Administrator, Office of Workforce Security.

[FR Doc. 00-5845 Filed 3-9-00; 8:45 am]

BILLING CODE 4510-30-M